DEPARTMENT OF DEFENSE

Department of the Air Force

Notice of Intent To Prepare an Environmental Impact Statement for Basing of the Permanent F-22 Formal Training Unit

AGENCY: Department of the Air Force, Department of Defense.

ACTION: Notice of intent.

SUMMARY: The Air Force is issuing this notice to advise the public of its intent to prepare an Environmental Impact Statement (EIS) for the proposed action to permanently beddown its F-22 Formal Training Unit (FTU). With this notice, the Air Force is initiating its scoping process and inviting the participation of the affected public, federal, state, and local agencies, any affected Native American tribe, and other interested persons to identify potentially significant environmental issues and to solicit related comments to assist in developing the overall scope of the F-22 FTU EIS.

DATES: The Air Force invites the affected public, federal, state, and local agencies, any affected Native American tribe, and other interested persons to attend formal scoping meetings in locations to be announced in the areas of Langley AFB, Eglin AFB, and Tyndall AFB. The dates, times and locations for the scoping meetings will be announced in local newspapers of general circulation by not later than 15 May 2019 and no less than 15 days prior to the meetings.

ADDRESSES: The affected public, federal, state, and local agencies, any affected Native American tribe, and other interested persons should submit their scoping comments in writing to: Mr Mike Ackerman, (757) 276-8556, AFCEC/CZN; Attn: F-22 FTU EIS, 2261 Hughes Ave., Ste. 155, JBSA Lackland, TX 78236-9853 or via email 633CES.CEIE.NEPAPublicComment@us.af.mil.

For FedEx and UPS Deliveries mail to: F-22 FTU EIS Scoping, 3515 S General McMullen, San Antonio, TX 78226-9853.

SUPPLEMENTARY INFORMATION: The EIS will assess the potential environmental consequences of the proposed action to beddown the F-22 FTU at Langley Air Force Base (AFB), Virginia, and the No Action Alternative, which consists of continuing F-22 FTU operations from a combination of Eglin AFB, Florida and Tyndall AFB, Florida. The Air Force carefully considered other alternatives for this proposed action, but based upon early internal scoping, these alternatives are not currently considered reasonable or within the scope of the proposed EIS due to known operational restrictions. Scoping comments submitted by affected public, federal, state, and local agencies, any affected Native American tribe, and other interested persons should be substantive in nature, in order to assist the Air Force in early identification of significant issues, and to ensure those issues are properly analyzed.

There is only one F-22 FTU and it consists of the F-22 aircraft in the 43rd Fighter Squadron (43 FS) and its associated T-38 aircraft in the 2d Fighter Training Squadron (2 FTS). The F-22 is the United States' premier fighter aircraft and essential to national security. It is a specialized “Fifth-Generation” fighter which introduces a large array of sensors that can detect both air and ground targets and share that data with other U.S. and Allied aircraft.

In December 2018, the Air Force sought approval from the Council of Environmental Quality (CEQ) of alternative arrangements pursuant to 40 CFR 1506.11 for implementing the procedural provisions of the National Environmental Policy Act, 42 U.S.C. 4321, et seq. (NEPA), for the interim beddown of the Air Force's F-22 FTU. The Air Force sought alternative arrangements due to emergency conditions resulting from Hurricane Michael displacing the 43 FS and 2 FTS from their home at Tyndall Air Force Base (AFB), Florida. On 21 December, 2018, the Air Force announced its decision to accept alternative arrangements proposed and approved by the Council on Environmental Quality (CEQ) for the Air Force's interim beddown of the F-22 Formal Training Unit at Eglin Air Force Base, Florida. The Air Force published a memorandum documenting the Air Force's decision to accept the CEQ's alternative arrangements in the Federal Register (84 FR 103, January 11, 2019). The alternative arrangements allowed the Air Force to comply with NEPA and temporarily restore training of replacement pilots for the F-22 FTU at Eglin AFB, by January 31, 2019.

As part of the alternative arrangements, the Air Force agreed to issue a Notice of Intent to prepare an EIS for the follow-on permanent F-22 FTU beddown, as soon as possible, but no later than April 1, 2019. This notification complies with that requirement.

Carlinda N. Lotson,
TSgt, USAF, Acting Air Force Federal Register Liaison Officer.

[FR Doc. 2019-05456 Filed 3-25-19; 8:45 am]

BILLING CODE P